DEPARTMENT OF ENERGY

Federal Energy Regulatory Commission

[Docket No. EG02-65-000, et al.]

CPV Cunningham Creek, LLC, et al.; Electric Rate and Corporate Regulation Filings

January 15, 2002.

Take notice that the following filings have been made with the Commission. Any comments should be submitted in accordance with Standard Paragraph E at the end of this notice.

1. CPV Cunningham Creek, LLC

[Docket No. EG02-65-000]

Take notice that on January 8, 2002, CPV Cunningham Creek, LLC (CPV Cunningham Creek or Applicant), c/o Competitive Power Ventures, Inc., Silver Spring Metro Plaza II, 8403 Colesville Road, Suite 915, Silver Spring, MD 20910, filed with the Federal Energy Regulatory Commission (Commission) an Application for Determination of Exempt Wholesale Generator Status, pursuant to part 365 of the Commission's regulations and section 32 of the Public Utility Holding Company Act of 1935, as amended.

Applicant, a Delaware limited liability company, is a special purpose entity established to develop, construct, own and operate a nominally rated 550 MW natural gas-fired combined cycle generating facility (Facility) to be located in Fluvanna County, Virginia. The Facility will consist of two (2) gas combustion turbines, two (2) heat recovery steam generators and one (1) steam turbine. The Facility as currently configured will include certain transmission interconnection facilities necessary to effect the sale of electric energy at wholesale and interconnect the Facility to the transmission grid. All of the electricity generated by the Facility will be sold exclusively at wholesale.

Comment Date: February 5, 2002 The Commission will limit its consideration of comments to those that concern the adequacy or accuracy of the application.

2. CPV Smyth, LLC

[Docket No. EG02-66-000]

Take notice that on January 8, 2002, CPV Smyth, LLC (CPV Smyth or Applicant), c/o Competitive Power Ventures, Inc., Silver Spring Metro Plaza II, 8403 Colesville Road, Suite 915, Silver Spring, MD 20910, filed with the Federal Energy Regulatory Commission (Commission) an Application for Determination of Exempt Wholesale Generator Status, pursuant to part 365 of the Commission's regulations and section 32 of the Public Utility Holding Company Act of 1935, as amended.

Applicant, a Delaware limited liability company, is a special purpose entity established to develop, construct, own and operate a nominally rated 780 MW natural gas-fired combined cycle generating facility (Facility) to be located in Smyth County, Virginia. The Facility will be a natural gas-fired combined-cycle electric generating facility, consisting of three (3) gas combustion turbines, three (3) heat recovery steam generators and three (3) steam turbines. The Facility as currently configured will include certain transmission interconnection facilities necessary to effect the sale of electric energy at wholesale and interconnect the Facility to the transmission grid. All of the electricity generated by the Facility will be sold exclusively at wholesale.

Comment Date: February 5, 2002 The Commission will limit its consideration of comments to those that concern the adequacy or accuracy of the application.

3. CPV Warren, LLC

[Docket No. EG02-67-000]

Take notice that on January 8, 2002, CPV Warren, LLC (CPV Warren or Applicant), c/o Competitive Power Ventures, Inc., Silver Spring Metro Plaza II, 8403 Colesville Road, Suite 915, Silver Spring, MD 20910, filed with the Federal Energy Regulatory Commission (Commission) an Application for Determination of Exempt Wholesale Generator Status, pursuant to part 365 of the Commission's regulations and section 32 of the Public Utility Holding Company Act of 1935, as amended.

Applicant, a Delaware limited liability company, is a special purpose entity established to develop, construct, own and operate a nominally rated 520 MW natural gas-fired combined cycle generating facility (“Facility”) to be located in Warren County, Virginia. The Facility will consist of two (2) gas combustion turbines, two (2) heat recovery steam generators, and two (2) steam turbines. The Facility as currently configured will include certain transmission interconnection facilities necessary to effect the sale of electric energy at wholesale and interconnect the Facility to the transmission grid. All of the electricity generated by the Facility will be sold exclusively at wholesale.

Comment Date: February 5, 2002. The Commission will limit its consideration of comments to those that concern the adequacy or accuracy of the application.

4. Midwest Independent Transmission System Operator, Inc.

[Docket No. ER01-3142-005]

Take notice that on January 9, 2002, Midwest Independent Transmission System Operator, Inc. (Midwest ISO) tendered for filing with the Federal Energy Regulatory Commission (Commission) a redlined and clean version of Substitute First Revised Sheet No. 363 to the Midwest ISO Open Access Transmission Tariff (OATT), FERC Electric Tariff, First Revised Volume No. 1, which was filed with the Commission on December 6, 2001 and contained a typographical error. The Midwest ISO filing in this proceeding regarded, among other things, Attachments A and B (Forms of Service Agreement for Non-Firm, Short-Term Firm and Long-Term Firm Point-to-Point Transmission Service under the Midwest ISO OATT.

The Midwest ISO has electronically served copies of its filing, with attachments, upon all Midwest ISO Members, Member representatives of Transmission Owners and Non-Transmission Owners, the Midwest ISO Advisory Committee participants, Policy Subcommittee participants, as well as all state commissions within the region. In addition, the filing has been electronically posted on the Midwest ISO's Web site at www.Midwestiso.org under the heading “Filings to FERC” for other interested parties in this matter.

Comment Date: January 30, 2002.

5. American Transmission Company LLC

[Docket No. ER02-78-001]

Take notice that on January 8, 2002, the Midwest Independent Transmission System Operator, Inc. (Midwest ISO) and American Transmission Company LLC (ATCLLC) (collectively, Applicants) tendered for filing with the Federal Energy Regulatory Commission (Commission) a Compliance Filing in compliance with the Commission's Letter Order Accepting Transfer of Rate Schedules. 97 FERC ¶ 61,260 (2001).

Comment Date: January 29, 2002.

6. Rathdrum Power, LLC

[Docket No. ER02-216-001]

Take notice that on January 9, 2002, Rathdrum Power, LLC (Rathdrum) submitted a corrected version of its October 31, 2001 filing of the fourth amendment to the long-term power purchase agreement between Rathdrum and Avista Energy, Inc., as assigned to Avista Turbine Power, Inc., for the sale of power under Rathdrum's market-based rate tariff with the appropriate FERC designations as required by the December 11, 2001 order issued in this docket.

Comment Date: January 30, 2002.

7. New England Power Pool

[Docket No. ER02-581-001]

Take notice that on January 9, 2002, the New England Power Pool (NEPOOL) Participants Committee filed for acceptance definitive Standstill Agreements consistent with a term sheet that was previously filed with the Commission, suspended and permitted to become effective on an interim basis. These arrangements implement alternative payment and financial assurance arrangements with Enron Power Marketing, Inc. (EPMI), Enron Energy Marketing Corp. (EEMC), and Enron Energy Services, Inc. (EESI) with respect to transactions occurring on and after December 21, 2001 and permit the immediate and automatic suspension and subsequent termination of participation by EPMI, EEMC and EESI, as the case may be, as members in NEPOOL should there be a failure to make a required payment under the filed arrangements.

A December 21, 2001 effective date was requested for the Standstill Agreements, as contemplated by the previously filed term sheet.

The Participants Committee states that copies of these materials were sent to the New England state governors and regulatory commissions and the Participants in NEPOOL.

Comment Date: January 30, 2002.

8. Duke Energy Corporation

[Docket No. ER02-710-000]

Take notice that on January 7, 2002, as amended on January 8, 2002, Duke Energy Corporation, on behalf of Duke Electric Transmission, filed a revised service agreement (First Revised Service Agreement No. 170) with Rockingham Power L.L.C. in this proceeding.

Comment Date: January 29, 2002.

9. Xcel Energy Services, Inc.

[Docket No. ER02-717-000]

Take notice that on January 8, 2002, Xcel Energy Services, Inc. (XES), on behalf of Northern States Power Company and Northern Sates Power Company (Wisconsin) (collectively, NSP) submitted for filing a Form of Service Agreement with EnergyUSA-TPC Corp. (EnergyUSA), which is accordance with NSP's Rate Schedule for Market-Based Power Sales (NSP Companies FERC Electric Tariff, Original Volume No. 6).

Xes request that this agreement become effective on December 13, 2001.

Comment Date: January 29, 2002.

10. Unitil Power Corp.

[Docket No. ER02-718-000]

Take notice that on January 8, 2002 Unitil Power Corp. (UPC) filed with the Federal Energy Regulatory Commission (Commission) an unexecuted service agreement with Enron Power Marketing, Inc. for service under UPC's Market-Based Power Sales Tariff. This Tariff was accepted for filing by the Commission on September 25, 1997, in Docket No. ER97-2460-000.

Comment Date: January 29, 2002.

11. Ameren Energy, Inc. on behalf of Union Electric Company d/b/a AmerenUE and Ameren Energy Generating Company

[Docket No. ER02-719-000]

Take notice that on January 9, 2002, Ameren Energy, Inc. (Ameren Energy), on behalf of Union Electric Company d/b/a AmerenUE and Ameren Energy Generating Company (collectively, the Ameren Parties), pursuant to section 205 of the Federal Power Act, 16 U.S.C. 824d, and the market rate authority granted to the Ameren Parties, submitted for filing umbrella power sales service agreements under the Ameren Parties' market rate authorizations entered into with OGE Energy Resources, Inc. and Florida Power Corporation. Ameren Energy seeks Commission acceptance of these service agreements effective November 1, 2001.

Copies of this filing were served on the public utilities commissions of Illinois and Missouri and the respective counter party.

Comment Date: January 29, 2002.

12. Northern Indiana Public Service Company

[Docket No. ER02-721-000]

Take notice that on January 8, 2002, Northern Indiana Public Service Company (Northern Indiana) filed a Service Agreement pursuant to its Wholesale Market-Based Rate Tariff with Aquila Energy Marketing Corporation (Aquila).

Northern Indiana has requested an effective date of January 7, 2002.

Copies of this filing have been sent to Aquila, the Indiana Utility Regulatory Commission, and the Indiana Office of Utility Consumer Counselor.

Comment Date: January 29, 2002.

13. Emera Energy Services, Inc.

[Docket No. ER02-723-000]

Take notice that on January 8, 2002, Emera Energy Services, Inc.(EES), tendered for filing with the Federal Energy Regulatory Commission (Commission) a Petition for Order Accepting Initial Rate Schedule For Filing.

Comment Date: January 29, 2002.

14. Wisconsin Power and Light Company

[Docket No. ER02-724-000]

Take notice that on January 10, 2002, Wisconsin Power and Light Company (WPL), tendered for filing a Service Agreement with WPPI and request to terminate Service Agreement No. 39 under FERC Electric Tariff, Original Volume No. 5.

WPL indicates that copies of the filing have been provided to WPPI, Prairie du Sac and the Public Service Commission of Wisconsin.

Comment Date: January 31, 2002.

15. Great Plains Power Incorporated

[Docket No. ER02-725-000]

Take notice that on January 9, 2002, Great Plains Power Incorporated (GPPI) tendered for filing an application for authorization to sell power at market-based rates.

Copies of this filing have been served on the Kansas Corporation Commission and the Missouri Public Service Commission.

Comment Date: January 30, 2002.

16. Nine Mile Point Nuclear Station, LLC

[Docket No. ER02-726-000]

Take notice that on January 9, 2002, Nine Mile Point Nuclear Station, LLC (Nine Mile LLC) submitted for filing with the Federal Energy Regulatory Commission (Commission), pursuant to section 205 of the Federal Power Act and part 35 of the Commission's regulations, an Amended and Restated Operating Agreement for Nine Mile Point Unit No. 2 Nuclear Generating Facility (the Agreement) by and between Nine Mile LLC and Long Island Lighting Company (d/b/a LIPA). The Agreement governs the terms and conditions pursuant to which Nine Mile LLC will operate and maintain the Nine Mile Point Unit No. 2 (NMP-2) nuclear generating facility, including certain limited interconnection facilities appurtenant to NMP-2.

Comment Date: January 30, 2002.

17. Exelon Generation Company, LLC

[Docket No. ER02-727-000]

Take notice that on January 9, 2002, Exelon Generation Company, LLC (Exelon Generation), submitted for filing a power sales service agreement between Exelon Generation and Lower Colorado River Authority under Exelon Generation's wholesale power sales tariff, FERC Electric Tariff Original Volume No. 2.

Comment Date: January 30, 2002.

18. Ameren Energy, Inc. on behalf of Union Electric Company d/b/a AmerenUE and Ameren Energy Generating Company

[Docket No. ER02-728-000]

Take notice that on January 9, 2002, Ameren Energy, Inc. (Ameren Energy), on behalf of Union Electric Company d/b/a AmerenUE and Ameren Energy Generating Company (collectively, the Ameren Parties), pursuant to section 205 of the Federal Power Act, 16 U.S.C. 824d, and the market rate authority granted to the Ameren Parties, submitted for filing umbrella power sales service agreements under the Ameren Parties' market rate authorizations entered into with Dynegy Power Marketing, Inc.

Ameren Energy seeks Commission acceptance of these service agreements effective December 12, 2001.

Copies of this filing were served on the public utilities commissions of Illinois and Missouri and the respective counter party.

Comment Date: January 30, 2002.

19. Consolidated Edison Company of New York, Inc.

[Docket No. ER02-729-000]

Take notice that on January 8, 2002, Consolidated Edison Company of New York, Inc. (Con Edison) tendered for filing a Supplement to its Rate Schedule FERC 117, an agreement to provide interconnection and transmission service to Keyspan/Long Island Power Authority (Keyspan). The Supplement provides for a decrease in the annual fixed rate carrying charges.

Con Edison has requested that this decrease take effect as of October 1, 2002.

Con Edison states that a copy of this filing has been served by mail upon Keyspan.

Comment Date: January 29, 2002.

20. Consolidated Edison Company of New York, Inc.

[Docket No. ER02-730-000]

Take notice that on January 8, 2002, Consolidated Edison Company of New York, Inc. (Con Edison) tendered for filing a Supplement to its Rate Schedule, Con Edison Rate Schedule FERC No. 123, a facilities agreement with Central Hudson Gas and Electric Corporation (CH).

Con Edison has requested that this supplement take effect as of September 1, 2001.

Con Edison states that a copy of this filing has been served by mail upon CH.

Comment Date: January 29, 2002.

21. Consolidated Edison Company of New York, Inc.

[Docket No. ER02-731-000]

Take notice that on January 8, 2002, Consolidated Edison Company of New York, Inc. (Con Edison) tendered for filing a Supplement to its Rate Schedule, Con Edison Rate Schedule FERC No. 130, a facilities agreement with the New York Power Authority (NYPA).

Con Edison has requested that the Supplement take effect as of October 1, 2001.

Con Edison states that a copy of this filing has been served by mail upon NYPA.

Comment Date: January 29, 2002.

22. Columbia Energy Power Marketing Corporation

[Docket No. ER02-733-000]

Take notice that on January 9, 2002, Columbia Energy Power Marketing Corporation (EPM) tendered for filing a Notice of Cancellation of its FERC Rate Schedule No. 1 (market-based rate authority).

CEPM states that, as it is not regulated by a state commission, has no long-term customers, and has no outstanding market-based rate transactions, it has not served copies of this filing upon any entity.

Comment Date: January 30, 2002.

23. Boston Edison Company

[Docket No. ER02-734-000]

Take notice that on January 9, 2002, Boston Edison Company (Boston Edison) tendered for filing a Notice of Cancellation of Rate Schedule FERC No. 197, to an Interconnection Agreement between Boston Edison and Cabot Power Corporation (Cabot) relating to interconnection work for Cabot's Island End station.

Boston Edison requests an effective date of October 9, 2001.

Boston Edison states that it has served a copy of the filing on Cabot and the Massachusetts Department of Telecommunications and Energy.

Comment Date: January 30, 2002.

24. Conectiv Delmarva Generation, Inc.

[Docket No. ER02-735-000]

Take notice that on January 9, 2002, Conectiv Delmarva Generation, Inc. (CDG), filed a revised tolling agreement between itself and Conectiv Energy Supply, Inc. (the Revised Tolling Agreement). The Revised Tolling Agreement is a service agreement under the CDG's market-based rate tariff, FERC Electric Tariff, First Revised Volume No. 1.

CDG requests waiver of the Commission's notice of filing requirements to allow the Revised Tolling Agreement to become effective on January 10, 2002, the day after filing.

Comment Date: January 30, 2002.

25. New York State Electric & Gas Corporation

[Docket No. ER02-736-000]

Take notice that on January 9, 2002, New York State Electric & Gas Corporation (NYSEG) tendered for filing pursuant to section 205 of the Federal Power Act and section 35.13 of the Federal Energy Regulatory Commission's (FERC or Commission) Regulations, a supplement to Rate Schedule 117 filed with FERC corresponding to an Agreement with the Delaware County Electric Cooperative (the Cooperative). The proposed supplement would decrease revenues by $424.50 based on the twelve month period ending December 31, 2000.

This rate filing is made pursuant to section 1 (c) and section 3 (a) through (c) of Article IV of the June 1, 1977 Facilities Agreement between NYSEG and the Cooperative, filed with FERC. The annual charges for routine operation and maintenance and general expenses, as well as revenue and property taxes are revised based on data taken from NYSEG's Annual Report to the Federal Energy Regulatory Commission (FERC Form 1) for the twelve month ended December 31, 2000. The revised facilities charge is levied on the cost of the 34.5 kV tie line from Taylor Road to the Jefferson Substation, constructed by NYSEG for the sole use of the Cooperative.

NYSEG requests an effective date of January 1, 2002.

Copies of the filing were served upon the Delaware County Electric Cooperative, Inc. and the Public Service Commission of the State of New York.

Comment Date: January 30, 2002.

Standard Paragraph

E. Any person desiring to be heard or to protest such filing should file a motion to intervene or protest with the Federal Energy Regulatory Commission, 888 First Street, NE., Washington, DC 20426, in accordance with rules 211 and 214 of the Commission's rules of practice and procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Linwood A. Watson, Jr.,
Acting Secretary.

[FR Doc. 02-1577 Filed 1-22-02; 8:45 am]

BILLING CODE 6717-01-P